DEPARTMENT OF COMMERCE

National Oceanic and Atmospheric Administration

Pacific Fishery Management Council; Public Meeting (Webinar)

AGENCY: National Marine Fisheries Service (NMFS), National Oceanic and Atmospheric Administration (NOAA), Commerce.

ACTION: Notice of a public meeting.

SUMMARY: The Pacific Fishery Management Council (Pacific Council) will convene a joint webinar meeting of its Coastal Pelagic Species Management Team and Coastal Pelagic Species Advisory Subpanel.

DATES: The Webinar meeting will be held Tuesday February 25, 2014, 11 a.m. until 12:30 p.m., Pacific Time.

ADDRESSES: The meeting will be held via webinar, and the public is invited to attend remotely, in listen-only mode. Detailed instructions on how to access the webinar will be posted to the Council's Web site in advance of the meeting.

FOR FURTHER INFORMATION CONTACT: Kerry Griffin, Staff Officer; telephone: (503) 820-2280.

SUPPLEMENTARY INFORMATION: The primary purpose of the meeting is to discuss Pacific sardine temperature parameters, including the CPSMT's report and a revised analyses report, both of which will be included in the March Council meeting briefing book materials.

Action will be restricted to those issues specifically listed in this notice and any issues arising after publication of this notice that require emergency action under Section 305(c) of the Magnuson-Stevens Fishery Conservation and Management Act, provided the public has been notified of the panel's intent to take final action to address the emergency.

Special Accommodations

Requests for sign language interpretation or other auxiliary aids should be directed to Mr. Kris Kleinschmidt, at (503) 820-2280, at least 5 days prior to the meeting date.

Dated: February 5, 2014.
Tracey L. Thompson,
Acting Deputy Director, Office of Sustainable Fisheries, National Marine Fisheries Service.

[FR Doc. 2014-02871 Filed 2-10-14; 8:45 am]

BILLING CODE 3510-22-P